DEPARTMENT OF TRANSPORTATION

Federal Aviation Administration

Notice of Availability of the Final Environmental Impact Statement (FEIS) for the Airfield Improvement Program at Palm Beach International Airport, West Palm Beach, FL

AGENCY: Federal Aviation Administration (FAA), Department of Transportation (DOT).

ACTION: Notice of Availability of the Final Environmental Impact Statement.

Location of Proposed Action: The Palm Beach International Airport (PBIA) is located in east Palm Beach County, Florida, adjacent to the City of West Palm Beach and immediately east of the Town of Haverhill.

SUMMARY: The FAA announces that the FEIS for the proposed Airfield Improvement Program (AIP) at PBIA is available for public review.

The FEIS includes the Section 106 consultation with the Florida State Historic Preservation Officer (SHPO) and the Keeper of the National Register of Historic Places (Keeper) regarding the National Register eligibility of properties within the EIS Area of Potential Effect (APE) and the proposed action's potential effect to historic resources eligible for, or listed-in, the National Register of Historic Places. Pursuant to the Coastal Zone Management Act of 1972 (CZMA), as amended, the proposed AIP is being evaluated in the FEIS for consistency with the Florida Coastal Management Program (FCMP). Comments regarding the compatibility of the No-Action Alternative, the AIP, and Alternative 2 with regard to Section 106 resources and the Florida's Coastal Management Program are encouraged by the FAA.

The FAA is seeking comments on those sections of the FEIS that have been updated and/or contain information that has become available since the release of the DEIS. Please see the SUPPLEMENTARY INFORMATION section below for more information.

Updated information regarding the forecasts of aviation operations at PBIA became available and was published following the public availability of the September, 2008 Draft Environmental Impact Statement (DEIS). Also, Palm Beach County (the Airport Sponsor) submitted to the FAA a revised implementation plan and schedule for the proposed AIP after the publication of the DEIS. The FAA determined that this information should be considered by the agency and be disclosed to the public in the FEIS.

All comments on the FEIS are to be submitted to Mr. Bart Vernace of the FAA, at the address shown in the section below entitled For Further Information or to Submit Comments Contact. The FAA is providing a forty-five (45) day comment period for the public to comment on the FEIS. The comment period begins on the date of the publication of this Notice of Availability (NOA) in the Federal Register, and will close on March 21, 2011.

SUPPLEMENTARY INFORMATION: The FAA, as the lead Federal agency, has prepared the EIS for the proposed AIP at PBIA. The FAA published a DEIS in September, 2008. The DEIS was prepared pursuant to the National Environmental Policy Act of 1969 (NEPA). The DEIS comparatively assessed and disclosed the potential future impacts of the No-Action Alternative (no development at PBIA besides that which has already been planned, environmentally reviewed, and/or that are needed for safety, security or maintenance reasons), and two proposed action alternatives, designated as the Airport Sponsor's AIP (Proposed Project) and Alternative 2. The primary capacity enhancement elements of these two proposed action alternatives consists of the following: AIP—relocate existing Runway 10R/28L 100 feet south of its existing location and expand the runway to a length of 8,000 feet and a width of 150 feet; Alternative 2—construct new Runway 10L/28R located 800 feet north of existing Runway 10L/28R to a length of 10,000 feet and a width of 150 feet. Both the AIP and Alternative 2 include other less substantial airport-related projects that are either associated with the primary runway development components of each alternative or are stand-alone projects that could be constructed by the Airport Sponsor outside of the EIS process.

Since the publication of the DEIS, the economic recession has resulted in a decrease in aviation activity at PBIA and changes in the FAA's forecasts of aviation activity for both PBIA and for the national system. The actual and forecast decrease in aircraft operations at PBIA have been, and are expected to continue to be, substantial enough to bring into question the initially proposed timing for implementation of the airport improvement program studied in the DEIS. As a result, the FAA made a determination that the 2006 PBIA Master Plan Update forecasts approved for use in the DEIS, and which were used as the basis for the justification for the airport capacity enhancement component of the Airport Sponsor's AIP, were no longer appropriate for use in determining the timing for the implementation of the AIP and Alternative 2. After the publication of the DEIS, and the review of comments on the DEIS, the FAA determined that a more recent forecast of aviation activity that is representative of the changed conditions at PBIA should be used for the FEIS. Subsequently, the FAA decided that the agency's own 2009 Terminal Area Forecast (2009 TAF) would be the most applicable forecast of aviation activity for use in the FEIS. The 2009 TAF shows that future aircraft activity at PBIA would likely increase at only a modest annual rate when compared to the 2006 PBIA Master Plan Update Forecasts.

After consultation with the FAA and review of the 2009 TAF, the Airport Sponsor concluded, and the FAA agreed, that the airfield capacity enhancement elements of the AIP and Alternative 2, the primary components of which is the relocation and expansion of Runway 10R/28L, would not be needed at PBIA by the year 2013, which was the proposed AIP and Alternative 2 implementation year identified and evaluated by the FAA in the DEIS.

As a result, the Airport Sponsor proposed to the FAA a revised implementation plan and schedule for the AIP. The revised plan and schedule consists of developing the AIP in two components, which are designated in the FEIS as the Near-Term AIP Project and the Long-Term AIP Project. The FAA subsequently evaluated in the FEIS both the Airport Sponsor's AIP and Alternative 2 based on the revised implementation plan and schedule.

The Near-Term AIP Alternative component consists of the development of general aviation (GA) facilities in the northwest quadrant of PBIA; widening Taxiway “L” from 50 feet to 75 feet, and the acquisition of approximately 13.2 acres of property along the western PBIA property line. The Long-Term AIP Alternative component consists of the expansion of Runway 10R/28L as described above, the shortening of the southeast end of Runway 14/32 by 3,412 feet, the extension of the northwest end of Runway 14/32 by 480 feet, GA facility relocation, other connected actions to the Runway 10R/28L project, and other minor stand alone airport improvement projects.

The Near-Term Alternative 2 component consists of essentially the same projects as the Near-Term AIP Alternative component, with the exception of a revised configuration for the GA development area in the northwest quadrant of PBIA. The Long-Term Alternative 2 component consists of the development of new Runway 10L/28R as described above, the closure of Runway 14/32, relocation of portions of Concourses “B” and “C”, relocation of the ARFF and Air Cargo Building, other connected actions to the Runway 10L/28R project, and other minor stand alone airport improvement projects.

The Airport Sponsor is requesting the FAA's “unconditional” approval of the Near-Term AIP Project through the FAA's findings and determinations in its Record of Decision (ROD) on the FEIS. If “unconditional” approval is granted by the FAA in its ROD, the Airport Sponsor anticipates that the Near-Term AIP Projects would be constructed and operational by the year 2015. However, the FAA acknowledges that the development schedule for future GA facilities would be influenced by prevailing market conditions, the demand for additional GA facilities, and respective business decisions by the Airport Sponsor and Fixed Base Operators (FBO's). Therefore, the build-out of the Near-Term AIP or Near-Term Alternative 2 GA facilities could occur sometime before or after the FEIS Near-Term study year of 2015.

Through the EIS process and the FAA's subsequent ROD, the Airport Sponsor is also requesting the FAA's “conditional” approval of the Long-Term AIP Project. The Long-Term AIP Project consists of the primary airfield capacity enhancement components of the AIP, which includes the relocation and expansion of Runway 10R/28L and connected actions, as well as other minor stand-alone airport improvement projects. The Long-Term AIP Project would be considered by the FAA for unconditional approval only when the number of aircraft operations at PBIA returns to the levels that would cause unacceptable aircraft operational delay. At such time that this occurs, the FAA will consider the appropriate level of additional NEPA processing and environmental analysis/documentation that may be needed to fully evaluate and disclose the potential environmental impacts associated with the Long-Term AIP Project and its connected actions.

Public Comment: Because of the amount of time that has elapsed since the publication of the DEIS, the consideration of revised forecasts (FAA's 2009 TAF) in the FEIS, and the Airport Sponsor's revised implementation plan and schedule for the proposed project, the FAA is seeking comments on its FEIS for a period of 45 days following the publication of the NOA of the FEIS in the Federal Register. After review and consideration of the comments received on the FEIS, and sometime after the 45-day comment period on the FEIS has ended, the FAA will issue its ROD. The public comment period on the FEIS will begin on February 4, 2011 and will close on March 21, 2011. Copies of the FEIS are available for review at the following locations during regular business hours:

• Palm Beach County Library Greenacres Branch, 3750 Jog Road, Greenacres, FL 33467.

• Palm Beach County Library Okeechobee Boulevard Branch, 5689 West Okeechobee Boulevard, West Palm Beach, FL 33417.

• West Palm Beach Public Library, 411 Clematis Street, West Palm Beach, FL 33401.

A limited number of copies of the FEIS will be available for review by appointment only during regular business hours at the following locations:

• Federal Aviation Administration, Orlando Airports District Office, 5950 Hazeltine National Drive Citadel International Building, Suite 400, Orlando, Florida. Contact Bart Vernace at (407) 812-6331.

• Palm Beach International Airport, Palm Beach County Department of Airports, 846 Palm Beach International Airport, West Palm Beach, Florida. Contact Gary Sypek at (561) 471-7412.

An electronic copy of the FEIS will be available for review and download from the EIS Web site (http://www.pbia-eis.com) beginning February 4, 2011.

Written comments on the FEIS may be mailed or e-mailed to Mr. Bart Vernace of the FAA at the address shown in the section below entitled For Further Information or to Submit Comments Contact. All comments must be postmarked by March 21, 2011.

Comments should be as specific as possible and address the analysis of potential environmental impacts, the adequacy of the proposed action, or the merits of alternatives and the mitigation being considered. Reviewers should organize their participation so that it is meaningful and makes the agency aware of the viewer's interests and concerns using quotations and other specific references to the text of the FEIS and related documents. This commenting procedure is intended to ensure that substantive comments and concerns are made available to the FAA in a timely manner so that the FAA has an opportunity to address them in its ROD.

Comments can only be accepted with the full name and address of the individual commenting. Before including your address, phone number, e-mail address, or other personal identifying information in your comment, be advised that your entire comment—including your personal identifying information—may be made publicly available at any time. While you can ask the FAA in your comment to withhold from public review your personal identifying information, the FAA cannot guarantee that it will be able to do so.

For Further Information or to Submit Comments Contact: Mr. Bart Vernace, PE, Assistant Manager, Federal Aviation Administration, Orlando Airports District Office, 5950 Hazeltine National Drive, Citadel International Building, Suite 400, Orlando, Florida 32822. Phone: (407) 812-6331. E-mail: pbia-eis@urscorp.com.

Issued in Orlando, Florida on January 25, 2011.
W. Dean Stringer,
Manager, Orlando Airports District Office, Federal Aviation Administration.

[FR Doc. 2011-2065 Filed 2-3-11; 8:45 am]

BILLING CODE 4910-13-P